DEPARTMENT OF HEALTH AND HUMAN SERVICES

Substance Abuse and Mental Health Services Administration

Center for Mental Health Services; Notice of Meeting

Pursuant to Public Law 92-463, notice is hereby given of the meeting of the Center for Mental Health Services (CMHS) National Advisory Council in May 2001.

A portion of the meeting will be open and will include a roll call, general announcements, and discussion about consumer affairs, new program initiatives for the current fiscal year, the recently released Surgeon General's Report on youth violence, and grant findings from the ACCESS program, which dealt with issues related to mental health and homelessness. Public comments are welcome. Please communicate with the individual listed as contact below for guidance. If anyone needs special accommodations for persons with disabilities please notify the contact listed below.

The meeting will also include the review, discussion, and evaluation of grant applications. Therefore a portion of the meeting will be closed to the public as determined by the SAMHSA Administrator, in accordance with Title 5 U.S.C. 552b(c) (4) and (6) and 5 U.S.C. App. 2. &10 (d).

A summary of the meeting and a roster of Council members may be obtained from Ms. Patricia Gratton, Committee Management Officer, CMS, Room 11C-27, Parklawn Building, Rockville, Maryland 20857, telephone (301) 443-7987.

Committee Name: CMHS National Advisory Council.

Meeting Date: Thursday, May 24, 2001.

Place: Gaithersburg Marriott Washingtonian Center (at Rio), 9751 Washingtonian Boulevard, Gaithersburg, Maryland.

Closed: May 24, 2001, 9 a.m.-10 a.m.

Open: May 24, 2001, 10:15 a.m.-5:30 p.m.

Contact: Eileen S. Pensinger, M.Ed., Executive Secretary, 5600 Fishers Lane, Parklawn Building, Room 17C-27, Rockville, Maryland 20857, Telephone: (301) 443-4823 and FAX (301) 443-4865.

This notice is being published less than 15 days prior to the meeting due to the urgent need to meet timing limitations imposed by the review and funding cycle.

Dated: May 9, 2001.
Toian Vaughn,
Executive Secretary/Committee Management Officer Substance Abuse and Mental Health Services Administration.

[FR Doc. 01-12096 Filed 5-14-01; 8:45 am]

BILLING CODE 4162-20-P